JOINT BOARD FOR THE ENROLLMENT OF ACTUARIES

Meeting of the Advisory Committee

AGENCY: Joint Board for the Enrollment of Actuaries.

ACTION: Notice of Federal Advisory Committee meeting.

SUMMARY: The Joint Board for the Enrollment of Actuaries gives notice of a teleconference meeting of the Advisory Committee on Actuarial Examinations. The meeting will be closed to the public.

DATES: The meeting will be held on August 20, 2020, from 1:00 p.m. to 5:00 p.m. (EDT), and August 21, 2020, from 1:00 p.m. to 5:00 p.m. (EDT).

ADDRESSES: The meeting will be held by teleconference.

FOR FURTHER INFORMATION CONTACT: Elizabeth Van Osten, Designated Federal Officer, Advisory Committee on Actuarial Examinations, at (202) 317-3648 (not a toll free number) or Elizabeth.J.Vanosten@irs.gov.

SUPPLEMENTARY INFORMATION: Notice is hereby given that the Advisory Committee on Actuarial Examinations will meet by teleconference on August 20, 2020, from 1:00 p.m. to 5:00 p.m. (EDT) and August 21, 2020, from 1:00 p.m. to 5:00 p.m. (EDT). The meeting will be closed to the public.

The purpose of the meeting is to review the July 2020 Basic (EA-1) and July 2020 Pension (EA-2L) Examinations in order to make recommendations relative thereto, including the minimum acceptable pass scores.

A determination has been made as required by section 10(d) of the Federal Advisory Committee Act, 5 U.S.C. App., that the subject of the meeting falls within the exception to the open meeting requirement set forth in Title 5 U.S.C. 552b(c)(9)(B), and that the public interest requires that such meeting be closed to public participation.

Dated: July 23, 2020.
Thomas V. Curtin, Jr.
Executive Director, Joint Board for the Enrollment of Actuaries.

[FR Doc. 2020-16358 Filed 8-3-20; 8:45 am]

BILLING CODE 4830-01-P